DEPARTMENT OF AGRICULTURE

Submission for OMB Review; Comment Request

October 24, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB. EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Federal-State Marketing Improvement Program (FSMIP).

OMB Control Number: 0581-NEW.

Summary of Collection: The Federal-State Marketing Improvement Program (FSMIP) operates pursuant to the authority of the Agricultural Act of 1946 (7 U.S.C. 1621, et seq.). Section 204(b) authorizes the Secretary of Agriculture to make available funds to State Departments of Agriculture, State bureaus and departments of markets, State agricultural experiment stations, and other appropriate State agencies for cooperative projects in marketing service and in marketing research to effectuate the purposes of title II of the Agricultural Act of 1946. FSMIP provides matching grants on a competitive basis to enable States to explore new market opportunities for U.S. food and agricultural products and to encourage research and innovation aimed at improving the efficiency and performance of the U.S. marketing system.

Need and Use of the Information: The information collection requirements in this request are needed to implement the Federal-State Marketing Improvement Program (FSMIP). The information will be used by the Agricultural Marketing Service (AMS) to establish the entity's eligibility for participation, the suitability of the budget for the proposed project, and compliance with applicable Federal regulations.

Description of Respondents: State, local or tribal government.

Number of Respondents: 40.

Frequency of Responses: Reporting: annually; semi-annually.

Total Burden Hours: 4,730.

Charlene Parker,
Departmental Information Collection Clearance Officer.

[FR Doc. E6-18043 Filed 10-26-06; 8:45 am]

BILLING CODE 3410-02-P